NATIONAL AERONAUTICS AND SPACE ADMINISTRATION

[Notice 04-047]

Notice of Prospective Patent License

AGENCY: National Aeronautics and Space Administration.

ACTION: Notice of prospective patent license.

SUMMARY: NASA hereby gives notice that LumeraCom, Inc., of W. Henrietta, NY, has applied for a partially exclusive patent license to practice the invention described and claimed in KSC-12278 entitled “Image Edge Extraction Via Fuzzy Reasoning,” KSC-12490 “Optimal Binarization of Gray-Scaled Digital Images Via Fuzzy Reasoning,” KSC-12630 “Image Processing for Binarization Enhancement via Fuzzy Logic,” and KSC-12394 “Hypothesis Support Mechanism for Mid-Level Visual Pattern Recognition,” which are assigned to the United States of America as represented by the Administrator of the National Aeronautics and Space Administration. Written objections to the prospective grant of a license should be sent to Randall M. Heald, Assistant Chief Counsel/Patent Counsel, and John F. Kennedy Space Center.

DATES: Responses to this notice must be received by April 6, 2004.

FOR FURTHER INFORMATION CONTACT: Randall M. Heald, Assistant Chief Counsel/Patent Counsel, John F. Kennedy Space Center, Mail Code: CC-A, Kennedy Space Center, FL 32899, telephone (321) 867-7214.

Dated: March 12, 2004.
Robert M. Stephens,
Deputy General Counsel.

[FR Doc. 04-6233 Filed 3-19-04; 8:45 am]

BILLING CODE 7510-01-P